DEPARTMENT OF HEALTH AND HUMAN SERVICES

National Institutes of Health

Government-Owned Inventions; Availability for Licensing

AGENCY: National Institutes of Health, Public Health Service, DHHS.

ACTION: Notice.

SUMMARY: The invention listed below is owned by an agency of the U.S. Government and is available for licensing in the U.S. in accordance with 35 U.S.C. 207 to achieve expeditious commercialization of results of federally-funded research and development. Foreign patent applications are filed on selected inventions to extend market coverage for companies and may also be available for licensing.

ADDRESSES: Licensing information and copies of any U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Phenylthiocarbamide (PTC) Taste Receptor

Dennis Drayna, Un-Kyung Kim, Mark Leppart (NIDCD)

U.S. Provisional Application No. 60/306,991 filed 20 Jul 2001 (DHHS Reference No. E-169-2001/0-US-01); International Publication No. W0 03/008627 (DHHS Reference No. E-169-2001/0-PCT-02)

Licensing Contact: Susan Carson; 301/435-5020; carsonsu@mail.nih.gov

Bitter taste has evolved in mammals as a central warning signal against ingestion of poisonous or toxic compounds. However, many beneficial compounds are also bitter and taste masking of bitter tasting pharmaceutical compounds is a billion dollar industry. The diversity of compounds that elicit bitter-taste sensations is vast and more than two dozen members of the TAS2R bitter taste receptor gene family have been identified. How individuals are genetically predisposed to respond or not to respond to the bitter taste of substances like nicotine and certain foods like broccoli may have broad implications for nutritional status and tobacco use. Large individual differences in the taste perception of bitter compounds have been well documented, and phenylthiocarbamide (PTC), the subject of this invention by scientists at the NIH and the University of Utah, has been widely used for genetic and anthropological studies.

The PTC receptor encodes a novel member of the G protein-coupled TAS2R bitter taste receptor family (Science (2003) 299, 1221-1225). Three coding SNPs in this gene were identified as giving rise to five haplotypes which accounted for the bimodal distribution of PTC taste sensitivity worldwide. Distinct phenotypes are associated with distinct genotypes and SNPs such as these identifying variations in the PTC receptor would allow taste masking of bitter tasting compounds tailored to the population genetics profile of different groups and populations.

The invention available for licensing includes composition of matter claims for a bitter taste receptor for PTC, antibodies to the receptor and methods of detecting nucleic acid and amino acid sequences as well as modulators of such PTC taste receptors. The ability to taste PTC has been shown to be correlated with the ability to taste other bitter substances, many of which are toxic. Thus variation in PTC perception and knowledge of the genetic basis of these variants can be used to aid the development of a variety of taste improvements in foods and orally administered medications.

Dated: December 10, 2003.
Steven M. Ferguson,
Director, Division of Technology Development and Transfer, Office of Technology Transfer, National Institutes of Health.

[FR Doc. 03-31327 Filed 12-18-03; 8:45 am]

BILLING CODE 4140-01-P